DEPARTMENT OF LABOR

Employment and Training Administration

[TA-W-61,507]

CGI Employed at Cott Beverages Wyomissing, Inc., Wyomissing, PA; Notice of Termination of Investigation

Pursuant to Section 221 of the Trade Act of 1974, as amended, an investigation was initiated on May 10, 2007, in response to a worker petition filed on behalf of workers of CGI employed at Cott Beverages Wyomissing, Inc., Wyomissing, Pennsylvania.

The petitioning group of workers is covered by an active certification (TA-W-60,463 as amended) which expires on January 10, 2009. Consequently, further investigation in this case would serve no purpose, and the investigation has been terminated.

Signed at Washington, DC, this 4th day of June 2007.
Richard Church,
Certifying Officer, Division of Trade Adjustment Assistance.

[FR Doc. E7-11473 Filed 6-13-07; 8:45 am]

BILLING CODE 4510-FN-P